DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Lisa M. Palluconi, Acting Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On September 12, 2024, OFAC determined that the property and interests in property subject to U.S. jurisdiction of the following persons are blocked under the relevant sanctions authorities listed below.

Individuals

1. MENESES RODRIGUEZ, Antonio Jose, Venezuela; DOB 10 Dec 1980; nationality Venezuela; Gender Male; Cedula No. V14316687 (Venezuela) (individual) [VENEZUELA].

Designated pursuant to section 1(a)(ii)(C) of Executive Order 13692 of March 8, 2015, “Blocking Property and Suspending Entry of Certain Persons Contributing to the Situation in Venezuela,” 80 FR 12747, 3 CFR, 2015 Comp., p. 276 (March 11, 2015) (E.O. 13692), as amended by Executive Order 13857 of January 25, 2019, “Taking Additional Steps To Address the National Emergency With Respect to Venezuela,” 84 FR 509, 3 CFR, 2019 Comp., p. 251 (January 30, 2019) (E.O. 13857), for being a current or former official of the Government of Venezuela.

2. HIDALGO PANDARES, Juan Carlos (a.k.a. “PANDARES, Juan Carlos”), Venezuela; DOB 20 Oct 1961; POB Maracay, Aragua, Venezuela; nationality Venezuela; Gender Male; Cedula No. V7220202 (Venezuela) (individual) [VENEZUELA].

Designated pursuant to section 1(a)(ii)(C) of E.O. 13692, as amended by E.O. 13857, for being a current or former official of the Government of Venezuela.

3. BUSTAMANTE PUERTA, Dinorah Yoselin (a.k.a. BUSTAMANTE PUERTA, Dinora Joselin; a.k.a. BUSTAMANTE PUERTA, Dinora Yoselin), Venezuela; DOB 14 Jan 1975; POB Venezuela; nationality Venezuela; Gender Female; Cedula No. V10002096 (Venezuela) (individual) [VENEZUELA].

Designated pursuant to section 1(a)(ii)(C) of E.O. 13692, as amended by E.O. 13857, for being a current or former official of the Government of Venezuela.

4. MARQUEZ CORDERO, Fanny Beatriz, Caracas, Venezuela; DOB 05 Feb 1969; POB Caracas, Venezuela; nationality Venezuela; Gender Female; Cedula No. 6272864 (Venezuela); Passport 054208483 (Venezuela) expires 01 Feb 2017 (individual) [VENEZUELA].

Designated pursuant to section 1(a)(ii)(C) of E.O. 13692, as amended by E.O. 13857, for being a current or former official of the Government of Venezuela.

5. BRITO HERNANDEZ, Asdrubal Jose, Venezuela; DOB 06 Jan 1974; POB Venezuela; nationality Venezuela; citizen Venezuela; Gender Male; Cedula No. 12251274 (Venezuela) (individual) [VENEZUELA].

Designated pursuant to section 1(a)(ii)(C) of E.O. 13692, as amended by E.O. 13857, for being a current or former official of the Government of Venezuela.

6. HERNANDEZ LAREZ, Johan Alexander, Venezuela; DOB 30 Jan 1971; POB Venezuela; nationality Venezuela; citizen Venezuela; Gender Male; Cedula No. 9888327 (Venezuela) (individual) [VENEZUELA].

Designated pursuant to section 1(a)(ii)(C) of E.O. 13692, as amended by E.O. 13857, for being a current or former official of the Government of Venezuela.

7. MUNOZ PALACIOS, Miguel Antonio, Caracas, Venezuela; DOB 12 Jul 1964; POB Caracas, Venezuela; nationality Venezuela; Gender Male; Cedula No. 6186648 (Venezuela) (individual) [VENEZUELA].

Designated pursuant to section 1(a)(ii)(C) of E.O. 13692, as amended by E.O. 13857, for being a current or former official of the Government of Venezuela.

8. DUENEZ REYES, Luis Ernesto, Caracas, Venezuela; DOB 20 Aug 1988; POB San Cristobal, Venezuela; nationality Venezuela; Gender Male; Cedula No. 18880942 (Venezuela) (individual) [VENEZUELA].

Designated pursuant to section 1(a)(ii)(C) of E.O. 13692, as amended by E.O. 13857, for being a current or former official of the Government of Venezuela.

9. GIL RODRIGUEZ, Malaquias (a.k.a. “RODRIGUEZ, Malaquias”), Carache, Trujillo, Venezuela; DOB 27 Feb 1960; POB Trujillo, Venezuela; nationality Venezuela; Gender Male; Cedula No. V5352190 (Venezuela) (individual) [VENEZUELA].

Designated pursuant to section 1(a)(ii)(C) of E.O. 13692, as amended by E.O. 13857, for being a current or former official of the Government of Venezuela.

10. GIL PACHECO, Rosalba, Venezuela; DOB 18 Mar 1965; POB Caracas, Venezuela; nationality Venezuela; Gender Female; Cedula No. V6186648 (Venezuela); Passport 045745320 (Venezuela) expires 09 Aug 2020 (individual) [VENEZUELA].

Designated pursuant to section 1(a)(ii)(C) of E.O. 13692, as amended by E.O. 13857, for being a current or former official of the Government of Venezuela.

11. INFANTE APARICIO, Pedro Jose (a.k.a. “APARICIO, Pedro Jose”), Caracas, Venezuela; DOB 01 Sep 1981; POB Caracas, Venezuela; nationality Venezuela; Gender Male; Cedula No. V15541220 (Venezuela) (individual) [VENEZUELA].

Designated pursuant to section 1(a)(ii)(C) of E.O. 13692, as amended by E.O. 13857, for being a current or former official of the Government of Venezuela.

12. FIGUEROA ARIZALETA, Inocencio Antonio (a.k.a. “ARIZALETA, Inocencio Antonio”), Calle Piramide Red Majestic Park Torre D Apto 25 Urb Miranda, Sucre, Miranda 1090, Venezuela; DOB 17 Dec 1959; POB Caracas, Venezuela; nationality Venezuela; Gender Male; Cedula No. 5016509 (Venezuela) (individual) [VENEZUELA].

Designated pursuant to section 1(a)(ii)(C) of E.O. 13692, as amended by E.O. 13857, for being a current or former official of the Government of Venezuela.

13. ESTRADA PAREDES, Elio Ramon, Capital District, Venezuela; DOB 02 Dec 1966; POB Caracas, Venezuela; nationality Venezuela; Gender Male; Cedula No. 6857541 (Venezuela) (individual) [VENEZUELA].

Designated pursuant to section 1(a)(ii)(C) of E.O. 13692, as amended by E.O. 13857, for being a current or former official of the Government of Venezuela.

14. BRICENO CISNEROS, Edward Miguel, Caracas, Venezuela; DOB 11 Mar 1986; POB Caracas, Venezuela; nationality Venezuela; Gender Male; Cedula No. 17514632 (Venezuela) (individual) [VENEZUELA].

Designated pursuant to section 1(a)(ii)(C) of E.O. 13692, as amended by E.O. 13857, for being a current or former official of the Government of Venezuela.

15. HERNANDEZ LAREZ, Domingo Antonio, Capital District, Venezuela; DOB 09 Mar 1965; POB Venezuela; nationality Venezuela; Gender Male; Cedula No. 6133376 (Venezuela); Passport B0700456 (Venezuela) (individual) [VENEZUELA].

Designated pursuant to section 1(a)(ii)(C) of E.O. 13692, as amended by E.O. 13857, for being a current or former official of the Government of Venezuela.

16. RODRIGUEZ RODRIGUEZ, Caryslia Beatriz, Caracas, Venezuela; DOB 16 Jul 1967; POB Maracay, Venezuela; nationality Venezuela; Gender Female; Cedula No. 8671555 (Venezuela) (individual) [VENEZUELA].

Designated pursuant to section 1(a)(ii)(C) of E.O. 13692, as amended by E.O. 13857, for being a current or former official of the Government of Venezuela.

Dated: September 12, 2024.
Lisa M. Palluconi,
Acting Director, Office of Foreign Assets Control, U.S. Department of the Treasury.

[FR Doc. 2024-21331 Filed 9-18-24; 8:45 am]

BILLING CODE 4810-AL-P